DEPARTMENT OF THE TREASURY

Submission for OMB Review; Comment Request

January 14, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 21, 2002 to be assured of consideration.

Customs Service (CUS)

OMB Number: 1515-0120.

Form Number: None.

Type of Review: Extension.

Title: Commercial Invoice.

Description: The collection of Commercial Invoices is necessary for the proper assessment of Customs duties,. The invoice(s) is attached to the CF 7501. The information which is supplied by the foreign shipper is used to ensure compliance with statutes and regulations.

Respondents: Business or other for-profit, Individuals or households, Not-for-profit institutions.

Estimated Number of Respondents: 46,500,000.

Estimated Burden Hours Per Respondent : 10 seconds.

Frequency of Response: On occasion.

Estimated Total Reporting Burden: 130,200 hours.

Clearance Officer: Tracey Denning (202) 927-1429, U.S. Customs Service, Information Services Branch, Ronald Reagan Building, 1300 Pennsylvania Avenue, NW., Room 3.2.C, Washington, DC 20229.

OMB Reviewer: Alexander T. Hunt (202) 395-7860, Office of Management and Budget, Room 10202, New Executive Office Building, Washington, DC 20503.

Lois K. Holland,
Departmental Reports, Management Officer.

[FR Doc. 02-1484 Filed 1-18-02; 8:45 am]

BILLING CODE 4820-02-P